DEPARTMENT OF DEFENSE

Department of the Navy

Notice of Intent To Grant Partially Exclusive Patent License; Tracey A. Dodenhoff

AGENCY: Department of the Navy, DOD.

ACTION: Notice.

SUMMARY: The Department of the Navy hereby gives notice of its intent to grant to Tracey A. Dodenhoff, a revocable, nonassignable, partially exclusive license to practice in the United States, the Government-owned inventions described in U.S. Patent No. 5,769,084, issued June 23, 1998, entitled “Method and Apparatus For Diagnosing Sleep Breathing Disorders” and U.S. Patent Application Serial No. 09/724,402, filed on November 28, 2000, entitled “Method and Apparatus For Diagnosing Sleep Breathing Disorders While A Patient Is Awake” in the field of underwater acoustic systems.

DATES: Anyone wishing to object to the grant of this license has fifteen (15) days from the date of this notice to file written objections along with supporting evidence, if any.

ADDRESSES: Written objections are to be filed with the Naval Undersea Warfare Center Division, Newport, 1176 Howell St., Bldg 112T, Code 00OC, Newport, RI 02841.

FOR FURTHER INFORMATION CONTACT: Mr. M. J. McGowan, Deputy Counsel-Patents, Naval Undersea Warfare Center Division, Newport, 1176 Howell St., Bldg 112T, Code 00OC, Newport, RI 02841, telephone (401) 832-4736.

(Authority: 35 U.S.C. 207, 37 CFR part 404)

Dated: December 5, 2001.
T. J. Welsh,
Lieutenant Commander, Judge Advocate General's Corps, U.S. Navy, Federal Register Liaison Officer.

[FR Doc. 02-518 Filed 1-8-02; 8:45 am]

BILLING CODE 3810-FF-P